INTERNATIONAL TRADE COMMISSION

[USITC SE-01-030]

Sunshine Act Meeting

AGENCY HOLDING THE MEETING: International Trade Commission.

TIME AND DATE: August 22, 2001 at 11:00 a.m.

PLACE: Room 101, 500 E Street SW., Washington, DC 20436, Telephone: (202) 205-2000.

STATUS: Open to the public.

MATTERS TO BE CONSIDERED:

1. Agenda for future meeting: none.

2. Minutes.

3. Ratification List.

4. Inv. No. 731-TA-894 (Final) (Certain Ammonium Nitrate from Ukraine)—briefing and vote. (The Commission is currently scheduled to transmit its determination and Commissioners' opinions to the Secretary of Commerce on August 31, 2001.)

5. Inv. No. NAFTA-312-1 (Certain Steel Wire Rod)—briefing and vote. (The Commission is currently scheduled to transmit its findings to the President on August 23, 2001; Commissioners' opinions are currently scheduled to be transmitted to the President on September 7, 2001.)

6. Outstanding action jackets: none.

In accordance with Commission policy, subject matter listed above, not disposed of at the scheduled meeting, may be carried over to the agenda of the following meeting.

By order of the Commission.
Issued: August 14, 2001.
Donna R. Koehnke,
Secretary.

[FR Doc. 01-21090 Filed 8-16-01; 3:33 pm]

BILLING CODE 7020-02-M